DEPARTMENT OF LABOR

Occupational Safety and Health Administration

Maritime Advisory Committee for Occupational Safety and Health; Notice of Meeting

AGENCY: Occupational Safety and Health Administration (OSHA), Labor.

ACTION: Maritime Advisory Committee for Occupational Safety and Health; notice of meeting.

SUMMARY: The Maritime Advisory Committee for Occupational Safety and Health (“MACOSH” or “Committee”) was established to advise the Assistant Secretary of Labor for OSHA on issues relating to occupational safety and health in the maritime industries. The purpose of this Federal Register notice is to announce the MACOSH and workgroup meetings scheduled for November 27-28, 2007.

DATES: The workgroups will meet on November 27, 2007, from 8:15 a.m. until approximately 5:15 p.m. in conference rooms C-5515-A and B. MACOSH will meet on November 28, 2007, from 8:30 a.m. until approximately 5:30 p.m. in conference rooms S-5215-A, B, and C.

ADDRESSES: The Committee and workgroups will meet at the Frances Perkins Building, U.S. Department of Labor, 200 Constitution Avenue, NW., Washington, DC 20210. Building security requires that attendees have photographic identification (e.g., a valid driver's license) and pass through a screening device. Mail comments, views, or statements in response to this notice to Joseph V. Daddura, Acting Director, Office of Maritime, OSHA, U.S. Department of Labor, Room N-3609, 200 Constitution Avenue, NW., Washington, DC 20210; phone (202) 693-2086; FAX: (202) 693-1663.

FOR FURTHER INFORMATION CONTACT: For general information about MACOSH and this meeting, contact: Joseph V. Daddura, Acting Director, Office of Maritime, U.S. Department of Labor, Room N-3609, 200 Constitution Avenue, NW., Washington, DC 20210; phone: (202) 693-2086. Individuals with disabilities wishing to attend the meeting should contact Vanessa L. Welch at (202) 693-2086 no later than November 20, 2007, to obtain appropriate accommodations.

SUPPLEMENTARY INFORMATION: All MACOSH meetings and workgroup meetings are open to the public. All interested persons are invited to attend the MACOSH and workgroup meetings at the times and places listed above. Each workgroup may discuss one or more of the topics listed for that workgroup as time permits. The meeting times for each workgroup are approximate and subject to change without advance notice.

The Longshoring workgroup will meet from 8:15 a.m. until 10:15 a.m. in conference room C-5515-A. Discussions may include the traffic safety in marine terminals guidance document, roll-on roll-off cargo guidance document, and the International Maritime Organization's (IMO) initiative on cargo-lashing safety.

The Shipyards workgroup will meet from 8:15 a.m. until 10:15 a.m. in conference room C-5515-B. Discussions may include spray paint standards and hot work on coatings.

The Cranes and Falls workgroup will meet from 10:15 a.m. until 12:15 p.m. in conference room C-5515-A. Discussions may include working over water from aerial work platforms and the National Transportation Safety Board's recommendation to OSHA on the Athena 106 investigation.

The Outreach and Safety Culture workgroup will meet from 1:15 p.m. until 3:15 p.m. in conference room C-5515-A. Discussions may include leading indicators, e-tools, non-English worker issues, new technology and safety, updating the OSHA Training Institute shipyard and longshoring courses, the new maritime outreach training course, and an update from the Mobile Area OSHA maritime alliance on the 10-hour and 30-hour outreach courses.

The Health workgroup will meet from 3:15 p.m. until 5:15 p.m. in conference room C-5515-A. Discussions will include radiation exposure in marine terminals.

MACOSH agenda: The agenda will include: An OSHA activities update, report on Ergonomics for the Prevention of Musculoskeletal Disorders: Guidelines for Shipyards, reports from each workgroup, an update on the NIOSH maritime hearing-protection study, a briefing on the NIOSH National Occupational Research Agenda (“NORA”), an update on OSHA's electrical standard, and a review of the minutes from the previous meeting.

Public Participation: Written data, views, or comments for consideration by MACOSH on the various agenda items listed above should be submitted to Vanessa L. Welch at the address listed above. Submissions received by November 20, 2007, will be provided to Committee members and will be included in the record of the meeting. Requests to make oral presentations to the Committee may be granted as time permits. Anyone wishing to make an oral presentation to the Committee on any of the agenda items listed above should notify Vanessa L. Welch by November 20, 2007. The request should state the amount of time desired, the capacity in which the person will appear, and a brief outline of the content of the presentation.

Authority: Edwin G. Foulke, Jr., Assistant Secretary of Labor for Occupational Safety and Health, directed the preparation of this notice under the authority granted by Sections 6(b)(1) and 7(b) of the Occupational Safety and Health Act of 1970 (29 U.S.C. 655, 656), the Federal Advisory Committee Act (5 U.S.C. App. 2), Secretary of Labor's Order 5-2007 (72 FR 31159), and 29 CFR part 1912.

Signed at Washington, DC on November 2, 2007.
Edwin G. Foulke, Jr.,
Assistant Secretary of Labor for Occupational Safety and Health.

[FR Doc. E7-21845 Filed 11-6-07; 8:45 am]

BILLING CODE 4510-26-P